GENERAL SERVICES ADMINISTRATION

[OMB Control No. 3090-0080; Docket No. 2021-0001; Sequence No. 3]

Submission for OMB Review; General Services Administration Acquisition Regulation; Contract Financing Final Payment, GSA Form 1142, Release of Claims

AGENCY: Office of Acquisition Policy, General Services Administration (GSA).

ACTION: Notice of request for public comments regarding an extension to an existing OMB clearance.

SUMMARY: Under the provisions of the Paperwork Reduction Act, the Regulatory Secretariat Division will be submitting to the Office of Management and Budget (OMB) a request to review and approve an extension of a previously approved information collection requirement of GSA Form 1142, Release of Claims, regarding final payment under construction and building services contract.

DATES: Submit comments on or before: July 29, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Bryon Boyer, Procurement Analyst, Office of Governmentwide Policy, by phone at 817-850-5580 or by email at gsarpolicy@gsa.gov.

SUPPLEMENTARY INFORMATION:

A. Purpose

The General Services Administration Acquisition Regulation (GSAR) clause 552.232-72 requires construction and building services contractors to submit a release of claims before final payment is made to ensure contractors are paid in accordance with their contract requirements and for work performed. GSA Form 1142, Release of Claims is used to achieve uniformity and consistency in the release of claims process.

B. Annual Reporting Burden

Respondents: 1,330.

Responses per Respondent: 1.

Annual Responses: 1,330.

Hours per Response: 0.10.

Total Burden Hours: 133.

C. Public Comments

A notice published in the Federal Register at 86 FR 20159 on April 16, 2021. No comments were received.

Obtaining Copies of Proposals: Requesters may obtain a copy of the information collection documents from the Regulatory Secretariat Division by calling 202-501-4755 or emailing GSARegSec@gsa.gov. Please cite OMB Control No. 3090-0080; Contract Financing Final Payment, GSA Form 1142, Release of Claims, in all correspondence.

Jeffrey A. Koses,
Senior Procurement Executive, Office of Acquisition Policy, Office of Government-wide Policy.

[FR Doc. 2021-13808 Filed 6-28-21; 8:45 am]

BILLING CODE 6820-61-P